DEPARTMENT OF TRANSPORTATION

Federal Aviation Administration

Notice of Availability of a Draft Environmental Assessment

AGENCY: Federal Aviation Administration (FAA), DOT.

ACTION: Notice of Availability of a Draft Environmental Assessment (DEA) for a Proposed Airport Traffic Control Tower and Associated Base Building, Peoria International Airport, Peoria, Illinois.

SUMMARY: The Federal Aviation Administration (FAA) proposes to fund, construct, and operate a new Airport Traffic Control Tower (ATCT) and Base Building at the General Wayne A. Downing—Peoria International Airport (PIA), Peoria, Illinois. The FAA's preferred alternative is to construct the ATCT at a location approximately 1,000 feet east of the PIA terminal building.

The purpose of the proposed project is to improve operational efficiency, meet existing and future operational and administrative expansion requirements, and accommodate state-of-the-art equipment upgrades. The need for the project is to provide a replacement ATCT, as the existing ATCT was constructed as part of the original terminal building, which is planned to be demolished. A new ATCT and Base Building at PIA would be able to meet these needs. The FAA has prepared a Draft Environmental Assessment (DEA) in conformance with the requirements of the National Environmental Policy Act of 1969 (NEPA) and FAA Order 1050.1E, Environmental Impacts: Policies and Procedures. The DEA analyzes the potential environmental impacts that may result from construction and operation of the proposed new ATCT and Base Building at the proposed site, as well as the no action alternative (i.e., not constructing and operating the new ATCT).

DATES: The FAA will accept written comments on the DEA until close of business on June 29, 2015.

ADDRESSES: The DEA is available for public review during a 30-day public comment period at the following locations:

Alpha Park Public Library, 3527 Airport Road, Bartonville, IL 61607.

Peoria International Airport—Metropolitan Airport Authority of Peoria, 6100 W. Everett McKinley Dirksen Parkway, Peoria, IL 61607.

Written comments on the DEA may be sent to: Ms. Virginia Marcks, FAA, AJW-2C15H, 2300 East Devon Ave., Des Plaines, IL 60018, fax 847-294-7698, email virginia.marcks@faa.gov. Copies of the Draft EA on compact disk may be obtained by contacting Ms. Virginia Marcks. Comments received on the DEA during the public comment period will be addressed in the Final Environmental Assessment.

FOR FURTHER INFORMATION CONTACT: Ms. Virginia Marcks, Manager, Infrastructure Engineering Center, Federal Aviation Administration, 2300 East Devon Avenue, Des Plaines, Illinois 60018. Telephone number: 847-294-7494. Email: virginia.marcks@faa.gov.

Issued in Des Plaines, Illinois, May 8, 2015.
Virginia Marcks,
Manager, Infrastructure Engineering Center, Federal Aviation Administration, Chicago, AJW-2C15H Central Service Area.

[FR Doc. 2015-11659 Filed 5-13-15; 8:45 am]

BILLING CODE 4910-13-P